DEPARTMENT OF THE INTERIOR

Bureau of Land Management

[LLMT922200-17X-L13100000-FI0000-P;NDM 94112-MO#4500107589]

Proposed Reinstatement of Terminated Oil and Gas Lease NDM 94112, North Dakota

AGENCY: Bureau of Land Management, Interior.

ACTION: Notice of lease reinstatement.

SUMMARY: As required under the Mineral Leasing Act of 1920, Emerald Oil, Inc. timely filed a petition for reinstatement of competitive oil and gas lease NDM 94112, McKenzie County, North Dakota. The lessee paid the required rental and royalties accruing from the date of termination. No leases were issued that affect these lands. The Bureau of Land Management proposes to reinstate the lease.

FOR FURTHER INFORMATION CONTACT: Kimberly Werven, Chief, Fluids Adjudication Section, Bureau of Land Management Montana State Office, 5001 Southgate Drive, Billings, Montana 59101-4669; telephone: 406-896-5091; email: kwerven@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee agrees to new lease terms for rentals and royalties of $10 per acre, or fraction thereof, per year, and 16⅔ percent, respectively. The lessee agrees to additional or amended stipulations. The lessee paid the $500 administration fee for the reinstatement of the lease and $159 cost for publishing this Notice.

The lessee met the requirements for reinstatement of the lease per Sec. 31(d) and (e) of the Mineral Leasing Act of 1920. We are proposing to reinstate the lease, effective the date of termination, subject to the:

• Original terms and conditions of the lease;

• Additional and amended stipulations;

• Increased rental of $10 per acre;

• Increased royalty of 16⅔ percent; and

• $159 cost of publishing this Notice.

Authority: 30 U.S.C. 188.

Kimberly Werven,
Chief, Fluids Adjudication Section.

[FR Doc. 2017-17725 Filed 8-21-17; 8:45 am]

BILLING CODE 4310-DN-P